DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

Malabika Sarker, M.B.B.S., M.P.H., University of Alabama at Birmingham: Based on the report of an investigation conducted by the University of Alabama at Birmingham and additional analysis conducted by ORI in its oversight review, the U.S. Public Health Service (PHS) finds that Dr. Sarker, former doctoral fellow, Department of Epidemiology, School of Public Health, University of Alabama at Birmingham, engaged in scientific misconduct by falsifying questionnaire data for risk factors for sexually transmitted diseases (STDs) in Bangladesh for her dissertation. The research was supported by the Fogerty International Center, National Institutes of Health (NIH), grant D43 TW01035, “UAB AIDS/HIV International Training & Research.”

The purpose of the research was to determine from questionnaires the lifestyle and personal history factors of subjects and correlate them to infection rates for STDs from use of laboratory tests. Dr. Sarker admitted that she falsified the coding of the questionnaire data relating to the occupations of the subjects and of their sexual partners to present statistically significant data regarding the risk factors for STDs.

Dr. Sarker has accepted the PHS finding and has entered into a Voluntary Exclusion Agreement with PHS in which she has voluntarily agreed for a period of three (3) years, beginning on April 17, 2001:

(1) To exclude herself from serving in any advisory capacity to PHS, including but not limited to service on any PHS advisory committee, board, and/or peer review committee;

(2) That any institution that submits an application for PHS support for a research project on which Dr. Sarker's participation is proposed or that uses Dr. Sarker in any capacity on PHS supported research, or that submits a report of PHS-funded research in which Dr. Sarker is involved, must concurrently submit a plan for supervision of her duties to the funding agency for approval. The supervisory plan must be designed to ensure the scientific integrity of Dr. Sarker's research contribution. The institution must also submit a copy of the supervisory plan to ORI.

FOR FURTHER INFORMATION CONTACT: Director, Division of Investigative Oversight, Office of Research Integrity, 5515 Security Lane, Suite 700, Rockville, MD 20852, (301) 443-5330.

Chris Pascal,
Director, Office of Research Integrity.

[FR Doc. 01-11073 Filed 5-2-01; 8:45 am]

BILLING CODE 4150-31-U